OFFICE OF MANAGEMENT AND BUDGET

Office of Federal Procurement Policy

DEPARTMENT OF DEFENSE

GENERAL SERVICES ADMINISTRATION

NATIONAL AERONAUTICS AND SPACE ADMINISTRATION

[OMB Control No. 9000-0029; Docket No. FAR-2025-0053; Sequence No. 15]

Submission for OMB Review; Extraordinary Contractual Action Requests

AGENCY: Office of Federal Procurement Policy (OFPP), Office of Management and Budget (OMB); Department of Defense (DOD); General Services Administration (GSA); and National Aeronautics and Space Administration (NASA).

ACTION: Notice.

SUMMARY: Under the provisions of the Paperwork Reduction Act, the Regulatory Secretariat Division has submitted to OMB a request to review and approve an extension of a previously approved information collection requirement regarding extraordinary contractual action requests.

DATES: Submit comments on or before August 4, 2025.

ADDRESSES: Written comments and recommendations for this information collection should be sent within 30 days of publication of this notice to www.reginfo.gov/public/do/PRAMain. Find this particular information collection by selecting “Currently under Review—Open for Public Comments” or by using the search function.

FOR FURTHER INFORMATION CONTACT: FARPolicy@gsa.gov or call 202-969-4075.

SUPPLEMENTARY INFORMATION:

A. OMB Control Number, Title, and Any Associated Form(s)

9000-0029, Extraordinary Contractual Action Requests.

B. Need and Uses

This clearance covers the information that contractors must submit to comply with the following Federal Acquisition Regulation (FAR) requirements:

FAR 50.103-3, Contract Adjustment. This section specifies the minimum information that a contractor must include when seeking a contract adjustment that would facilitate the national defense, as set forth in Public Law 85-804. The request, normally a letter, shall state as a minimum -

(1) The precise adjustment requested;

(2) The essential facts, summarized chronologically in narrative form;

(3) The contractor's conclusions based on these facts, showing, in terms of the considerations set forth in FAR 50.103-1 and 50.103-2, when the contractor considers itself entitled to the adjustment; and

(4) Whether or not -

(i) All obligations under the contracts involved have been discharged;

(ii) Final payment under the contracts involved has been made;

(iii) Any proceeds from the request will be subject to assignment or other transfer, and to whom; and

(iv) The contractor has sought the same, or a similar or related, adjustment from the Government Accountability Office or any other part of the Government, or anticipates doing so.

If the request exceeds the simplified acquisition threshold, the contractor must certify that the request is made in good faith and the data are accurate and complete.

FAR 50.103-4, Facts and Evidence. This section covers additional information that the contracting officer or other agency official may request from the contractor to support any request made under FAR 50.103-3.

FAR 50.104-3 Special Procedures for Unusually Hazardous or Nuclear Risks. This section provides the information a contractor shall submit to the contracting officer when requesting the inclusion of the indemnification clause for unusually hazardous or nuclear risks at FAR 52.250-1.

FAR 52.250-1, Indemnification Under Public Law 85-804. This clause allows contractors to be indemnified against unusually hazardous or nuclear risks. Paragraph (g) requires the contractor to promptly notify the contracting officer and furnish pertinent information for any claim or loss that may involve indemnification under the clause.

The Government uses this information to determine if relief can be granted to the contractor and to determine the appropriate type and amount of relief.

C. Annual Burden

Respondents: 20.

Total Annual Responses: 30.

Total Burden Hours: 1,440.

D. Public Comment

A 60-day notice was published in the Federal Register at 90 FR 15465, on April 11, 2025. A comment was received; however, it did not change the estimate of the burden.

Comment: The respondent expressed the following: “This collection should not be renewed based on an improper implementation upon setup. This also should not be considered based on the significant legal impact for the initial contract. This is important to address for the noncompliant agreement in place and the taxpayer dollars utilized over the years.”

Response: The respondents' input is appreciated. Any changes to the collection of information on extraordinary contractual action requests will require rulemaking.

Obtaining Copies: Requesters may obtain a copy of the information collection documents from the GSA Regulatory Secretariat Division, by calling 202-501-4755 or emailing GSARegSec@gsa.gov. Please cite OMB Control No. 9000-0029, Extraordinary Contractual Action Requests.

Janet Fry,
Director, Federal Acquisition Policy Division, Office of Governmentwide Acquisition Policy, Office of Acquisition Policy, Office of Governmentwide Policy.

[FR Doc. 2025-12451 Filed 7-2-25; 8:45 am]

BILLING CODE 6820-EP-P